SMALL BUSINESS ADMINISTRATION

[Declaration of Disaster #3555]

State of California (Amendment #2)

In accordance with a notice received from the Department of Homeland Security—Federal Emergency Management Agency, effective October 30, 2003, the above numbered declaration is hereby amended to extend the deadline for filing applications for physical damages as a result of this disaster to January 9, 2004.

All other information remains the same, i.e., the deadline for filing applications for economic injury is July 27, 2004.

(Catalog of Federal Domestic Assistance Program Nos. 59002 and 59008)
Dated: December 4, 2003.
Herbert L. Mitchell,
Associate Administrator for Disaster Assistance.

[FR Doc. 03-30659 Filed 12-10-03; 8:45 am]

BILLING CODE 8025-01-P